FEDERAL RETIREMENT THRIFT INVESTMENT BOARD

Notice of Board Meeting

DATES: May 26, 2021 at 10:00 a.m.

ADDRESSES: Telephonic. Dial-in (listen only) information: Number: 1-415-527-5035, Code: 199 893 1253; or via web: https://tspmeet.webex.com/tspmeet/onstage/g.php?MTID=ef30474a99bac8e705d75cf8d84e602e7.

FOR FURTHER INFORMATION CONTACT: Kimberly Weaver, Director, Office of External Affairs, (202) 942-1640.

SUPPLEMENTARY INFORMATION:

Board Meeting Agenda

Open Session

1. Approval of the April 27, 2021 Board Meeting Minutes

2. Approval of the August 24, 2020 ETAC Meeting Minutes

3. Monthly Reports

(a) Participant Activity Report

(b) Legislative Report

(c) Investment Performance

4. Quarterly Reports

(d) Metrics

5. Multi-Asset Manager Update

6. L Funds Study

7. Retirement Wellness Survey Report

8. Office of Communications and Education Annual Report

(Authority: 5 U.S.C. 552b (e)(1).)

Dated: May 13, 2021.
Dharmesh Vashee,
Acting General Counsel, Federal Retirement Thrift Investment Board.

[FR Doc. 2021-10506 Filed 5-18-21; 8:45 am]

BILLING CODE 6760-01-P